DEPARTMENT OF EDUCATION

[CFDA No.: 84.316A]

Office of Postsecondary Education, Native Hawaiian Higher Education Program; Notice Inviting Applications for New Awards for Fiscal Year (FY) 2001

Purpose of Program: To provide grants for programs of baccalaureate and post-baccalaureate fellowship assistance to Native Hawaiian students.

Eligible Applicants: Eligible applicants are Native Hawaiian educational organizations or educational entities with experience in developing or operating Native Hawaiian programs or programs of instruction conducted in the Native Hawaiian language, as defined in section 9212 of the Elementary and Secondary Education Act.

Deadline for Transmittal of Applications: December 15, 2000.

Deadline for Intergovernmental Review: February 13, 2001.

Applications Available: November 1, 2000.

Available Funds: $2,700,000. The estimated amount of funds available for new awards under this competition is based on the Administration's request for this program for FY 2001. The actual level of funding, if any, is contingent on final congressional action.

Estimated Range of Awards: $700,000-$1,400,000.

Estimated Average Size of Awards: $900,000 per year.

Estimated Number of Awards: 3.

Note: The Department is not bound by any estimates in this notice.

Project Period: Up to 48 months.

Applicable Regulations: (a) The Education Department General Administrative Regulations (EDGAR) in 34 CFR parts 74, 75, 77, 79, 80, 81, 82, 85, 86, and 99; and (b) Because there are no program-specific regulations, applicants are encouraged to read the authorizing statute for the Native Hawaiian Higher Education Program in sections 9206 and 9212 of the Elementary and Secondary Education Act.

For Applications or Information Contact: Susanna Easton or Gale Holdren, Native Hawaiian Higher Education Program, U.S. Department of Education, International Education and Graduate Programs Service, 1990 K Street NW, Suite 600, Washington, DC 20006-8521. Ms. Easton's telephone number is (202) 502-7628. Ms. Holdren's telephone number is (202) 502-7691. Ms. Easton and Ms. Holdren may be reached by email at:

susanna_easton@ed.gov

gale_holdren@ed.gov

If you use a telecommunications device for the deaf (TDD), you may call the Federal Information Relay Service (FIRS) at 1-800-877-8339.

Individuals with disabilities may obtain this document in an alternative format (e.g., Braille, large print, audiotape, or computer diskette) on request to the appropriate contact persons listed in the preceding paragraph. However, the Department is not able to reproduce in an alternative format the standard forms included in the application package.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have any questions about using PDF, call the U.S. Government Printing Office (GPO) toll free, at 1-888-293-6498; or in the Washington, DC area, at (202) 512-1530.

Note: The official version of this document is the document published in the Federal Register. Free Internet access to the official edition of the Federal Register and the Code of Federal Regulations is available on GPO Access at:

http://www.acess.gpo.gov/nara/index.html

Program Authority: 20 U.S.C. 7906.

Dated: September 26, 2000.
A. Lee Fritschler,
Assistant Secretary, Office of Postsecondary Education.

[FR Doc. 00-25187 Filed 9-29-00; 8:45 am]

BILLING CODE 4000-01-P